DEPARTMENT OF JUSTICE

Bureau of Alcohol, Tobacco, Firearms and Explosives

[ATF Notice No. 3; Docket No. ATF2003R-28T]

The Gang Resistance Education and Training Program: Availability of Financial Assistance, Criteria and Application Procedures

Correction

In notice document 03-26774 beginning on page 60709 in the issue of Thursday, October 23, 2003, make the following correction:

On page 60710, in the first column, under the heading Criteria and Points, in the fifth line, “and” shoud read “or”

[FR Doc. C3-26774 Filed 10-27-03; 8:45 am]

BILLING CODE 1505-01-D

SECURITIES AND EXCHANGE COMMISSION

17 CFR Part 275

[Release No. IA-2176; File No. S7-28-02]

RIN 3235-AH 26

Custody of Funds or Securities of Clients by Investment Advisers

Correction

In rule document 03-24813 beginning on page 56692 in the issue of Wednesday, October 1, 2003, make the following correction:

§275.206(4)-2 [Corrected]

On page 56701 in §275.206(4)-2, in the first column, in the fourth line, “(a)” is corrected to read “(b)”.

[FR Doc. C3-24813 Filed 10-27-03; 8:45 am]

BILLING CODE 1505-01-D